NATIONAL FOUNDATION ON THE ARTS AND THE HUMANITIES

Meetings of Humanities Panel

AGENCY: The National Endowment for the Humanities.

ACTION: Correction.

SUMMARY: The National Endowment for the Humanities published a document in the Federal Register of November 28, 2000, concerning a Humanities Panel meeting. The date of the meeting is December 12, 2000 and the title of the program of this meeting was incorrect.

FOR FURTHER INFORMATION CONTACT: Laura S. Nelson at (202) 606-8322.

Correction

In the Federal Register of November 28, 2000, on page 70950, in the third column, numbered paragraph 11, correct the title of the Humanities Panel Program for December 12, 2000 to read:

Program: This meeting will review applications for American History IV, submitted to the Division of Preservation and Access at the July 1, 2000 deadline.

Dated: December 6, 2000.
Laura S. Nelson,
Advisory Committee Management Officer.

[FR Doc. 00-31582 Filed 12-11-00; 8:45 am]

BILLING CODE 7536-01-M